DEPARTMENT OF HOMELAND SECURITY

U.S. Customs and Border Protection

[OMB Control Number 1651-0NEW]

Agency Information Collection Activities; New Collection of Information; Russian Diamonds and Seafood E.O. 14114

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted no later than December 23, 2024 to be assured of consideration.

ADDRESSES: Written comments and/or suggestions regarding the item(s) contained in this notice must include the OMB Control Number 1651-0NEW in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Russian Diamonds and Seafood E.O. 14114.

OMB Number: 1651-0NEW.

Form Number: 3461, 7501, and other entry related forms.

Current Actions: New Collection of Information.

Type of Review: New Collection of Information.

Affected Public: Businesses.

Abstract: On December 22, 2023, President Biden issued Executive Order (E.O.) 14114, amending section 1 of E.O. 14068, issued April 15, 2021, to create subsections (a)(i)(A)-(D). Section 1(d) states,” “The Secretary of Homeland Security, with the concurrence of the Secretary of the Treasury, shall prescribe rules and regulations to collect, including through an authorized electronic data interchange system as appropriate, any documentation or information as may be necessary to enforce subsections (a)(i)(B)-(D) and (c) of this section as expeditiously as possible.” ¹

¹ https://www.federalregister.gov/documents/2023/12/26/2023-28662/taking-additional-steps-with-respect-to-the-russian-federations-harmful-activities.

On December 22, 2023, the Department of Treasury's Office of Foreign Assets Control (OFAC) issued a determination defining the scope of E.O. 14114 as it relates to Russian Seafood. This determination authorized CBP's collection of additional data elements required to enforce the E.O.²

² https://ofac.treasury.gov/faqs/1156#:~:text=The%20Seafood%20Determination%20prohibits%20the,product%20in%20a%20third%20country.

The E.O. prohibits the importation and entry into the United States, including importation for admission into a U.S. foreign trade zone, of salmon, cod, pollock, or crab that was produced wholly or in part in the Russian Federation or harvested in waters under the jurisdiction of the Russian Federation or by Russia-flagged vessels, even if such salmon, cod, pollock, or crab has been incorporated or substantially transformed into another product outside of the Russian Federation.

On February 8, 2024, OFAC issued two determinations “Prohibitions Related to Imports of Certain Categories of Diamonds” pursuant to E.O. 14068 and “Prohibitions Related to Imports of Diamond Jewelry and Unsorted Diamonds of Russian Federation Origin and Diamond Jewelry and Unsorted Diamonds Exported From the Russian Federation” pursuant to E.O. 14068, defining the scope of E.O. 14114 as it relates to Russian Diamonds and Diamond Jewelry. The determinations took effect on March 1, 2024, and September 1, 2024.

The E.O. prohibits importation of these products if they were mined, extracted, produced, or manufactured wholly or in part in the Russian Federation regardless of whether such products have been incorporated or substantially transformed into another product with a country of origin that is not the Russian Federation.

The E.O. authorizes CBP's collection of additional data elements to enforce the E.O.³

³ https://ofac.treasury.gov/faqs/added/2024-02-23.

CBP determined the following data elements are:

(1) Seafood:

a. Country of Harvest—of the product, including the country of harvest of any ingredient or component that was incorporated or substantially transformed into the final product.

b. Vessel Name—that harvested the product, including the name of the vessel that harvested any ingredient or component that was incorporated or substantially transformed into the final product. [Conditional on method of harvest being vessel]

c. Vessel Flag—country flag the vessel is registered in. [Conditional on method of harvest being vessel]

d. Vessel International Maritime Organization (IMO) number—The unique seven-digit vessel number issued to each vessel. [Conditional on method of harvest being vessel]

e. Self-Certification Statement—The document the importer providers verifying the imported goods do not contain Russian inputs. The certification for seafood must contain the following language on official importer letterhead and signed by a representative of the importer:

• Certification Statement—“I certify that any fish, seafood, or preparations thereof in this shipment were not harvested in waters under the jurisdiction of the Russian Federation or by Russia-flagged vessels, notwithstanding whether such product has been incorporated or substantially transformed into another product outside of the Russian Federation.”

f. Method of Harvest—Manner in which the product was gathered. This can include vessel, harvest capture fisheries, hatchery-based aquaculture, and small vessel harvest.

(2) Diamonds and Diamond Jewelry

A. Country of Mining—Where the diamonds were mined, extracted, produced, or manufactured wholly or in part.

B. Self-Certification Statement—The document the importer providers verifying the imported goods do not contain Russian inputs. The certification for diamonds must contain the following language on official importer letterhead and signed by a representative of the importer:

• (1) Certification Statement: For non-industrial diamonds: I certify that the non-industrial diamonds in this shipment were not mined, extracted, produced, or manufactured wholly or in part in the Russian Federation, or exported from the Russian Federation, notwithstanding whether such products have been substantially transformed into other products outside of the Russian Federation.

• (2) Certification Statement: For diamond jewelry and unsorted diamonds: I certify that the diamond jewelry and unsorted diamonds in this shipment were not mined, extracted, produced, or manufactured wholly or in part in the Russian Federation, or exported from the Russian Federation, notwithstanding whether such products have been substantially transformed into other products outside of the Russian Federation.

For the purposes of E.O. 14068, as amended by E.O. 14114, the Office of Foreign Assets Control published regulations defining the HTS numbers that require the self-certification statement in FAQ 1027 on February 23, 2024.

These new data elements will be added to the CBP Form 7501 Entry Summary and CBP Form, 3461 Entry/Immediate Delivery and CBP Form 3461 ALT for submission to ACE Cargo Release, and other relevant entry forms. The declaration of origin components, including the ability to report the breakdown of Russian or non-Russian jewelry, is done on a line level in the entry forms.

All items imported into the United States are subject to examination before entering the commerce of the United States. There are two procedures available to enable the release of imported merchandise, including “entry” pursuant to 19 U.S.C. 1484, and “immediate delivery” pursuant to 19 U.S.C. 1448(b). Under both procedures, CBP Forms 3461, Entry/Immediate Delivery, and 3461 ALT are the source documents in the packages presented to Customs and Border Protection (CBP). The information collected on CBP Forms 3461 and 3461 ALT allow CBP officers to verify that the information regarding the consignee and shipment is correct and that a bond is on file with CBP.

CBP Form 7501, Entry Summary, is used to identify merchandise entering the commerce of the United States, and to document the amount of duty and/or tax paid. CBP Form 7501 is submitted by the importer, or the importer's agent, for each import transaction. The data on this form is used by CBP as a record of the import transaction; to collect the proper duty, taxes, certifications, and enforcement information; and to provide data to the U.S. Census Bureau for statistical purposes. CBP Form 7501 must be filed within 10 working days from the time of entry of merchandise into the United States. Collection of the data on this form is authorized by 19 U.S.C. 1484 and provided for by 19 CFR 141.61 and 19 CFR 142.11.

Type of Information Collection: CBP Form 3461 (Seafood filers).

Estimated Number of Respondents: 27.

Estimated Number of Annual Responses per Respondent: 260.

Estimated Number of Total Annual Responses: 7,012.

Estimated Time per Response: 4.5 minutes.

Estimated Total Annual Burden Hours: 526.

Type of Information Collection: CBP Form 3461 (Diamond filers).

Estimated Number of Respondents: 46.

Estimated Number of Annual Responses per Respondent: 326.

Estimated Number of Total Annual Responses: 14,975.

Estimated Time per Response: 5 minutes.

Estimated Total Annual Burden Hours: 1,247.

Type of Information Collection: CBP Form 7501 Entry Summary (Seafood filers).

Estimated Number of Respondents: 520.

Estimated Number of Annual Responses per Respondent: 256.

Estimated Number of Total Annual Responses: 133,220.

Estimated Time per Response: 4.5 minutes.

Estimated Total Annual Burden Hours: 9,992.

Type of Information Collection: CBP Form 7501 Entry Summary (Diamond filers).

Estimated Number of Respondents: 45.

Estimated Number of Annual Responses per Respondent: 319.

Estimated Number of Total Annual Responses: 14,377.

Estimated Time per Response: 5 minutes.

Estimated Total Annual Burden Hours: 1,198.

Dated: October 16, 2024
Seth D. Renkema,
Branch Chief, Economic Impact Analysis Branch, U.S. Customs and Border Protection.

[FR Doc. 2024-24341 Filed 10-21-24; 8:45 am]

BILLING CODE 9111-14-P